DEPARTMENT OF TRANSPORTATION

National Highway Traffic Safety Administration

[Docket No. NHTSA-2019-0130; Notice 2]

Goodyear Tire & Rubber Company, Denial of Petition for Decision of Inconsequential Noncompliance

AGENCY: National Highway Traffic Safety Administration (NHTSA), Department of Transportation (DOT).

ACTION: Notice of petition denial.

SUMMARY: Goodyear Tire & Rubber Company (Goodyear), has determined that certain Kelly Armorsteel KDM 1 commercial truck tires do not comply with Federal Motor Vehicle Safety Standard (FMVSS) No. 119, New Pneumatic Tires for Motor Vehicles with a GVWR of more than 4,536 kilograms (10,000 pounds) and Motorcycles. Goodyear petitioned NHTSA on November 25, 2019, for a decision that the subject noncompliance is inconsequential as it relates to motor vehicle safety, and filed a noncompliance report dated November 26, 2019. This document announces and explains the denial of Goodyear's petition.

FOR FURTHER INFORMATION CONTACT: Jayton Lindley, Office of Vehicle Safety Compliance, NHTSA, telephone (325) 655-0547.

SUPPLEMENTARY INFORMATION: I. Overview: Goodyear has determined that certain Kelly Armorsteel KDM 1 commercial truck tires do not fully comply with paragraph S6.5 of FMVSS No. 119, New Pneumatic Tires for Motor Vehicles with a GVWR of More than 4,536 kilograms (10,000 pounds) and Motorcycles (49 CFR 571.119). Goodyear petitioned NHTSA on November 25, 2019, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance. Goodyear filed a noncompliance report dated November 26, 2019, pursuant to 49 CFR part 573, Defect and Noncompliance Responsibility and Reports.

Notice of receipt of Goodyear's petition was published with a 30-day public comment period in the Federal Register (85 FR 35994, June 12, 2020). No comments were received. To view the petition and all supporting documents log onto the Federal Docket Management System (FDMS) website at https://www.regulations.gov/. Then follow the online search instructions to locate docket number “NHTSA-2019-0130.”

II. Tires Involved: Approximately 76 Kelly Armorsteel KDM 1 commercial truck tires, size 11/R22.5 LRH, manufactured between August 25, 2019, and August 31, 2019, are potentially involved.

III. Noncompliance: Goodyear explained that the noncompliance is that the Tire Identification Number (TIN) on the subject tires contains a date code that was engraved less than the required depth of 0.51 mm (0.02 inch) and, therefore, does not meet the requirements of paragraph S6.5 of FMVSS No. 119.

IV. Rule Requirements: Paragraph S6.5 of FMVSS No. 119 includes the requirements relevant to this petition. Each tire shall be marked on each sidewall with the information specified in paragraphs (a) through (j) of this section. The markings shall comply with part 574.5 Tire Identification Markings which requires, among other things, that the markings be permanently molded 0.51 mm (0.02 inch) to 1.02 mm (0.04 inch) deep.

V. Summary of Goodyear's Petition: The following views and arguments presented in this section are the views and arguments provided by Goodyear. They do not reflect the views of the Agency.

Accordingly, Goodyear described the subject noncompliance and stated that the noncompliance is inconsequential as it relates to motor vehicle safety.

1. Goodyear believes this noncompliance is inconsequential to motor vehicle safety because these tires were manufactured as designed and meet or exceed all applicable FMVSS. All of the sidewall markings related to tire service (load capacity, corresponding inflation pressure, etc.) are correct. The mislabeling and irregular date code is not a safety concern and has no impact on the retreading, repairing, and recycling industries. The affected date code stencil has been corrected, and all future production will not contain the irregularity in the date code.

2. Goodyear states that the date code portion of the TIN becomes important in the event of a safety campaign, so that the consumer may properly identify the recalled tire(s). Goodyear states that in the unlikely event that a safety campaign would ever become necessary for this Kelly Armorsteel KDM 1 11/R22.5 LRH commercial truck tire made in the 34th week of 2019, it would include in the listing of recalled TINs the TIN for these tires with the date code portion as shown: MJ3TK2BW3419, as well as the TIN for these tires with the date code portion omitted as shown: MJ3TK2BW, so that the consumer would know that tires with this TIN are included in the recall even if they have difficulty reading the date code portion because it is not raised to the 0.51 mm level.

Goodyear concluded by expressing the belief that the subject noncompliance is inconsequential as it relates to motor vehicle safety, and that its petition to be exempted from providing notification of the noncompliance, as required by 49 U.S.C. 30118, and a remedy for the noncompliance, as required by 49 U.S.C. 30120, should be granted.

VI. NHTSA's Analysis: NHTSA does not agree with Goodyear's assessment that the noncompliance with FMVSS No. 119 is inconsequential to motor vehicle safety. As discussed below, the tire markings required by paragraph S6.5 (b) of FMVSS No. 119 provide valuable information about the tire. Goodyear does not provide information on the actual engraved depth of the date code, other than stating it is less than the required depth of 0.51 mm (0.02 inch). However, an exemplar photo provided by Goodyear in its petition shows that it is more than a de minimus deviation from the required depth and illustrates that the date code is very difficult or impossible to read.

NHTSA recognizes that Goodyear has addressed one safety related concern by ensuring that the subject tires with the insufficient date code depth will be included in any relevant future recall. However, the Agency finds that this measure does not address all safety concerns associated with a missing or illegible date code.

A significant source of tire related accidents is tire age. This is especially a concern in recreational vehicles (RVs) on which the subject tires could be installed because of the tire's size. RVs often sit in storage, unused, for extensive periods of time. NHTSA's website provides guidance for replacing a tire due to age and states the following: “As tires age, they are more prone to failure. Some vehicle and tire manufacturers recommend replacing tires that are six to 10 years old regardless of treadwear.” ¹ In the case of the subject tires, the insufficient date code depth makes the date code challenging to read, and the date code may become completely illegible with wear. This will prevent consumers from making informed decisions related to the age of the tire, which may lead to prolonged usage and increased risk of accidents.

¹ https://www.nhtsa.gov/equipment/tires (“Should I replace my tires?”)

Finally, Goodyear stated and believes this noncompliance is inconsequential to motor vehicle safety because these tires were manufactured as designed and meet or exceed all applicable Federal Motor Vehicle Safety Standards. Further, Goodyear stated all the sidewall markings related to tire service (load capacity, corresponding inflation pressure, etc.) are correct. NHTSA does not find these arguments to be relevant to the safety concerns presented by the noncompliance because they do not relate to the information provided by the date code.

VII. NHTSA's Decision: In consideration of the foregoing, NHTSA has decided that Goodyear has not met its burden of persuasion that the subject FMVSS No. 119 noncompliance is inconsequential to motor vehicle safety. Accordingly, Goodyear's petition is hereby denied and Goodyear is consequently obligated to provide notification of and free remedy for that noncompliance under 49 U.S.C. 30118 and 30120.

(Authority: 49 U.S.C. 30118, 30120: delegations of authority at 49 CFR 1.95 and 501.8)

Anne L. Collins,
Associate Administrator for Enforcement.

[FR Doc. 2022-13364 Filed 6-22-22; 8:45 am]

BILLING CODE 4910-59-P